NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by October 20, 2023. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2024-010

1. Applicant

Ron Naveen, Oceanites, PO Box 15259 Chevy Case, MD 20825.

Activity for Which Permit Is Requested

Waste management. The applicant seeks a waste management permit to operate Remotely Piloted Aircraft Systems (RPAS) in support of existing research activities conducted in the West Antarctica Peninsula. The applicant seeks to use RPAS to enable more efficient monitoring of penguin breeding sites and to increase penguin censusing capabilities. The permit will cover any unintentional or accidental loss of remotely piloted aircrafts through planned research operations. The applicant has provided a detailed mitigation plan to minimize risk of equipment loss, including use of observers and experienced pilots.

Location

Antarctic Peninsula Region.

Dates of Permitted Activities

September 1, 2023-August 31, 2028.

Kimiko S Bowens-Knox,
Program Analyst, Office of Polar Programs.

[FR Doc. 2023-20364 Filed 9-19-23; 8:45 am]

BILLING CODE 7555-01-P